DEPARTMENT OF HEALTH AND HUMAN SERVICES

Public Health Service

National Institute of Environmental Health Sciences (NIEHS); National Toxicology Program (NTP); Annual Progress Report of the Interagency Coordinating Committee on the Validation of Alternative Methods (ICCVAM): Notice of Availability

SUMMARY: Notice is hereby given of the availability of the report entitled, “Annual Progress Report of the Interagency Coordinating Committee on the Validation of Alternative Methods (ICCVAM).” In accordance with requirements of the ICCVAM Authorization Act of 2000 (Pub. L. 106-545), this report provides a description of the activities that have been carried out during the past year by the ICCVAM and the NTP Interagency Center for the Evaluation of Alternative Toxicological Methods (NICEATM).

Availability of the Report

To receive a copy of the report, please contact NICEATM at P.O. Box 12233, MD EC-17, Research Triangle Park, NC 27709; 919-541-2384 (phone); 919-541-0947 (fax); or niceatm@niehs.nih.gov. The report is also available on the ICCVAM/NICEATM Web site at: http://iccvam.niehs.nih.gov.

Background

The ICCVAM was formally authorized and designated as a permanent interagency coordinating committee by the ICCVAM Authorization Act of 2000, which was signed into law by the President on December 19, 2000. ICCVAM's duties include the technical evaluation of new and alternative testing methods, the development of test recommendations based on the technical evaluations, and subsequent recommendations to Federal agencies for their consideration. The ICCVAM also coordinates interagency issues on toxicological test method development, validation, regulatory acceptance, and national and international harmonization. The ICCVAM Authorization Act of 2000 directs ICCVAM to prepare reports on its progress and to make them available to the public. This annual report complies with the requirement for an initial progress report. Future reports will be prepared in accordance with the Act. Information about ICCVAM can be found on the Internet at: http://iccvam.niehs.nih.gov.

Dated: January 16, 2002.
Kenneth Olden,
Director, National Institute of Environmental Health Sciences.

[FR Doc. 02-2907 Filed 2-6-02; 8:45 am]

BILLING CODE 4140-01-P